CORPORATION FOR NATIONAL AND COMMUNITY SERVICE

Information Collection; Submission for OMB Review, Comment Request

AGENCY: Corporation for National and Community Service.

ACTION: Notice.

SUMMARY: The Corporation for National and Community Service (the Corporation), has submitted a public information collection request (ICR) entitled Segal AmeriCorps Education Award Matching Program Commitment Form for review and approval in accordance with the Paperwork Reduction Act of 1995, Public Law 104-13, (44 U.S.C. chapter 35). Copies of this ICR, with applicable supporting documentation, may be obtained by calling the Corporation for National and Community Service, Calvin Dawson, at (202) 606-6897 or email to cdawson@cns.gov. Individuals who use a telecommunications device for the deaf (TTY-TDD) may call 1-800-833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 28, 2012. This comment period ended April 30, 2012. One individual submitted public comments. One comment was that the form should include specific explanation of how the matching program works. In response, a program purpose section has been added to the form. Another comment was to show some links to the Corporation for National and Community Service Web site. In response, in addition to the link that already appears on the Form for FAQs, an additional link to the Corporation's Web site has been added. Additional comments related to ideas for organizing the Corporation's Web site. In response, since these ideas relate to the Web site and not to the Form itself then no changes to the Form was needed.

Description: The Corporation is seeking approval of Segal AmeriCorps Education Award Matching Program Commitment Form to be used by colleges and universities to submit to the Corporation for National and Community Service to obtain approval for information on them to appear on the Segal AmeriCorps Education Awards section of the Corporation for National and Community Service Web site.

Type of Review: New.

Agency: Corporation for National and Community Service.

Title: Segal AmeriCorps Education Award Matching Program Commitment Form.

OMB Number: TBD.

Agency Number: None.

Affected Public: Colleges and Universities.

Total Respondents: Estimated 200 Colleges and Universities.

Frequency: Once every five years.

Average Time per Response: 30 minutes.

Estimated Total Burden Hours: 100 hours.

Total Burden Cost (Capital/Startup): None.

Total Burden Cost (Operating/Maintenance): None.

Dated: May 23, 2012.
Idara Nickelson,
Chief of Program Operations.

[FR Doc. 2012-13209 Filed 5-30-12; 8:45 am]

BILLING CODE 6050-$$-P